DEPARTMENT OF THE INTERIOR

National Park Service

[NPS-AKRO-ANIA-DENA-CAKR-LACL-KOVA-WRST-GAAR-40393; PPAKAKROR4; PPMPRLE1Y.LS0000]

Public Meetings of the National Park Service Alaska Region Subsistence Resource Commission Program

AGENCY: National Park Service, Interior.

ACTION: Meeting notice.

SUMMARY: In accordance with the Federal Advisory Committee Act, as amended, the National Park Service (NPS) is hereby giving notice that the Aniakchak National Monument Subsistence Resource Commission (SRC), the Denali National Park SRC, the Cape Krusenstern National Monument SRC, the Lake Clark National Park SRC, the Kobuk Valley National Park SRC, the Wrangell-St. Elias National Park SRC, and the Gates of the Arctic National Park SRC will meet as indicated below.

DATES: The Aniakchak National Monument SRC will meet in-person and via videoconference from 1:00 p.m. to 5:00 p.m. or until business is completed on Tuesday, October 14, 2025. The alternate meeting date is Friday, October 17, 2025, from 1:00 p.m. to 5:00 p.m. or until business is completed at the same location and in-person and via videoconference. If an in-person meeting is not feasible or advisable, the meeting will be held solely by videoconference.

The Denali National Park SRC will meet in-person and via teleconference from 10:00 a.m. to 5:00 p.m. or until business is completed on Thursday, August 21, 2025, and Friday, August 22, 2025. If business is completed on August 21, 2025, the meeting will adjourn, no meeting will take place on August 22, 2025. The alternate meeting date is Thursday, August 28, 2025, and Friday, August 29, 2025, from 10:00 a.m. to 5:00 p.m. or until business is completed at the same location in-person and via teleconference.

The Cape Krusenstern National Monument SRC will meet in-person and via teleconference from 1:00 p.m. to 5:00 p.m. on Monday, November 3, 2025, and from 9:00 a.m. to 12:00 p.m. on Tuesday, November 4, 2025, or until business is completed. If business is completed on November 3, 2025, the meeting will adjourn, no meeting will take place on November 4, 2025. The alternate meeting dates are Monday, November 17, 2025, from 1:00 p.m. to 5:00 p.m., and Tuesday, November 18, 2025, from 9:00 a.m. to 12:00 p.m. or until business is completed at the same location in-person and via teleconference. If an in-person meeting is not feasible or advisable, the meeting will be held solely by teleconference.

The Lake Clark National Park SRC will meet in-person and via teleconference, from 1:00 p.m. to 4:00 p.m. or until business is completed on Saturday, September 27, 2025. The alternate meeting date is Saturday, October 18, 2025, from 1:00 p.m. to 4:00 p.m. or until business is completed at the same location in-person and via teleconference. If an in-person meeting is not feasible or advisable, the meeting will be held solely by teleconference.

The Kobuk Valley National Park SRC will meet in-person and via teleconference from 1:00 p.m. to 5:00 p.m. on Wednesday, November 5, 2025, and from 9:00 a.m. to 12:00 p.m. on Thursday, November 6, 2025, or until business is completed. If business is completed on November 5, 2025, the meeting will adjourn, and no meeting will take place on November 6, 2025. The alternate meeting dates are Wednesday, November 19, 2025, from 1:00 p.m. to 5:00 p.m., and Thursday, November 20, 2025, from 9:00 a.m. to 12:00 p.m. or until business is completed at the same location and via in-person and teleconference. If an in-person meeting is not feasible or advisable, the meeting will be held solely by teleconference.

The Wrangell-St. Elias National Park SRC will meet in-person and via teleconference from 9:00 a.m. to 5:00 p.m., or until business is completed on both Thursday, September 25, 2025, and Friday, September 26, 2025. If business is completed on September 25, 2025, the meeting will adjourn, and no meeting will take place on September 26, 2025. The alternate meeting dates are Thursday, October 2, 2025, and Friday, October 3, 2025, from 9:00 a.m. to 5:00 p.m., or until business is completed at the same location in-person and via teleconference. If an in-person meeting is not feasible or advisable, the meeting will be held solely by teleconference.

The Gates of the Arctic National Park SRC will meet in-person and via teleconference from 9:00 a.m. to 5:00 p.m., or until business is completed on both Tuesday, November 4, 2025, and Wednesday, November 5, 2025. The alternate meeting dates are Tuesday, December 2, 2025, from 9:00 a.m. to 5:00 p.m., and Wednesday, December 3, 2025, from 9:00 a.m. to 5:00 p.m., or until business is completed at the same location in-person and via teleconference. If an in-person meeting is not feasible or advisable, the meeting will be held solely by teleconference.

ADDRESSES: The Aniakchak National Monument SRC will meet in-person at the Katmai National Park Office, 1001 Silver Street, King Salmon, AK 99613 and via videoconference. Teleconference participants must call the NPS office at (907) 246-2121 prior to the meeting to receive teleconference passcode information. For more detailed information regarding these meetings, or if you are interested in applying for SRC membership, contact Designated Federal Officer Mark Sturm, Superintendent, at (907) 246-2120 or via email at mark_sturm@nps.gov, or Mallory Zharoff, Subsistence Coordinator, at (907) 246-2121 or via email at mallory_zharoff@nps.gov, or Eva Patton, Federal Advisory Committee Group Federal Officer, at (907) 644-3601 or via email at eva_patton@nps.gov.

The Denali National Park SRC will meet in-person at Denali Totem Inn, 248.7 Milepost Parks Highway, Healy, AK 99743 and via teleconference. Teleconference participants must call the NPS office at (907) 644-3604 prior to the meeting to receive teleconference passcode information. For more detailed information regarding these meetings, or if you are interested in applying for SRC membership, contact Designated Federal Officer Brooke Merrell, Superintendent, at (907) 683-9627 or via email at brooke_merrell@nps.gov, or Amy Craver, Subsistence Coordinator, at (907) 644-3604 or via email at amy_craver@nps.gov, or Eva Patton, Federal Advisory Committee Group Federal Officer, at (907) 644-3601 or via email at eva_patton@nps.gov.

The Cape Krusenstern National Monument SRC will meet in-person at the Northwest Arctic Heritage Center, 171 3rd Avenue, Kotzebue, AK 99752 and via teleconference. Teleconference participants must call the NPS office at (907) 442-8342 prior to the meeting to receive teleconference passcode information. For more detailed information regarding this meeting or if you are interested in applying for SRC membership, contact Designated Federal Officer Siikauraq Whiting, Superintendent, at (907) 442-8301 or via email at siikauraq_whiting@nps.gov, or Emily Creek, Subsistence Coordinator, at (907) 442-8342 or via email at emily_creek@nps.gov, or Eva Patton, Federal Advisory Committee Group Federal Officer, at (907) 644-3601 or via email at eva_patton@nps.gov.

The Lake Clark National Park SRC will meet in-person at the Newhalen Community Center, Corner of Mountain View Drive and Iliamna Road, Newhalen, AK 99606 and via teleconference. Teleconference participants must call the NPS office at (907) 644-3648 prior to the meeting to receive teleconference passcode information. For more detailed information regarding this meeting or if you are interested in applying for SRC membership, contact Designated Federal Officer Grant Hilderbrand, Superintendent, at (907) 781-3080 or via email at grant_hilderbrand@nps.gov, or Liza Rupp, Subsistence Manager, at (907) 644-3648 or via email at elizabeth_rupp@nps.gov, or Eva Patton, Federal Advisory Committee Group Federal Officer, at (907) 644-3601 or via email at eva_patton@nps.gov.

The Kobuk Valley National Park SRC will meet in-person at the Northwest Arctic Heritage Center, 171 3rd Avenue, Kotzebue, AK 99752 and via teleconference. Teleconference participants must call the NPS office at (907) 442-8342 prior to the meeting to receive teleconference passcode information. For more detailed information regarding this meeting or if you are interested in applying for SRC membership, contact Designated Federal Officer Siikauraq Whiting, Superintendent, at (907) 442-8301 or via email at siikauraq_whiting@nps.gov, or Emily Creek, Subsistence Coordinator, at (907) 442-8342 or via email at emily_creek@nps.gov, or Eva Patton, Federal Advisory Committee Group Federal Officer, at (907) 644-3601 or via email at eva_patton@nps.gov.

The Wrangell-St. Elias National Park SRC will meet in-person at Musher's Hall, 1311 Alaska Highway, Tok, AK 99780 and via teleconference. The backup location is Wrangell-St. Elias National Park and Preserve Visitor Center Complex, Mile 106.8 Richardson Highway, Copper Center, AK 99573. Teleconference participants must contact Cultural Anthropologist, Amber Cohen, at (907) 822-7284 or wrst_subsistence@nps.gov prior to the meeting to receive teleconference passcode information. For more detailed information regarding these meetings, or if you are interested in applying for SRC membership, contact Designated Federal Officer Joshua Scott, Acting Superintendent, at (907) 822-5234 or via email at joshua_scott@nps.gov, or Amber Cohen, Cultural Anthropologist, at (907) 822-7284 or via email at amber_cohen@nps.gov, or Eva Patton, Federal Advisory Committee Group Federal Officer, at (907) 644-3601 or via email at eva_patton@nps.gov.

The Gates of the Arctic National Park SRC will meet in-person at Sophie Station Hotel, Zach's Boardroom, 1717 University Avenue S., Fairbanks, AK 99709 and via teleconference. The backup location is the National Park Service Administrative Center, 4175 Geist Road, Fairbanks, AK 99709. Teleconference participants must call the NPS office at (907) 455-0639 prior to the meeting to receive teleconference passcode information. For more detailed information regarding this meeting or if you are interested in applying for SRC membership, contact Designated Federal Officer Mark Dowdle, Superintendent, at (907) 455-0614 or via email at mark_dowdle@nps.gov, or Marcy Okada, Subsistence Coordinator, at (907) 455-0639 or via email at marcy_okada@nps.gov, or Eva Patton, Federal Advisory Committee Group Federal Officer, at (907) 644-3601 or via email at eva_patton@nps.gov. In the event that an in-person meeting is not feasible or advisable, all meetings will be held solely via teleconference.

SUPPLEMENTARY INFORMATION: The NPS SRC program is authorized under title VIII, section 808 of the Alaska National Interest Lands Conservation Act (16 U.S.C. 3118) and in accordance with the Federal Advisory Committee Act (5 U.S.C. Ch. 10). SRC meetings are open to the public and will have time allocated for public testimony. The public is welcome to present written or oral comments to the SRC. SRC meetings will be recorded, and meeting minutes will be available upon request from the Superintendent for public inspection within 90 days after the meeting.

Meeting Accessibility/Special Accommodations: The meetings are open to the public. Please make requests in advance for sign language interpreter services, assistive listening devices, or other reasonable accommodations. We ask that you contact the person listed in the ADDRESSES section of this notice at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

Purpose of the Meeting: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Staff Reports

a. Ranger Reports

b. Resource Manager's Report

c. Subsistence Manager's Report

14. Public and Other Agency Comments

15. Work Session

16. Set Tentative Date and Location for Next SRC Meeting

17. Adjourn Meeting

SRC meeting location and date may change based on inclement weather or exceptional circumstances. If the meeting date and location are changed, the Superintendent will issue a press release and use local newspapers and/or radio stations to announce the rescheduled meeting.

Public Disclosure of Comments: Before including your address, phone number, email address, or other personal identifying information in your comment, you should be aware that your entire comment−including your personal identifying information−may be made publicly available at any time. While you can ask us in your comment to withhold your personal identifying information from public review, we cannot guarantee that we will be able to do so.

Authority: 5 U.S.C. Ch. 10.

Alma Ripps,
Chief, Office of Policy.

[FR Doc. 2025-14842 Filed 8-4-25; 8:45 am]

BILLING CODE 4312-52-P